DEPARTMENT OF TRANSPORTATION

Federal Aviation Administration

14 CFR Part 97

[Docket No. 31005; Amdt. No. 3632]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 20, 2015. The compliance date for each SIAP, associated Takeoff Minimums, and ODP is specified in the amendatory provisions.

The incorporation by reference of certain publications listed in the regulations is approved by the Director of the Federal Register as of March 20, 2015.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420)Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 13, 2015.
John Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * *Effective Upon Publication

AIRAC Date | State | City | Airport | FDC No. | FDC Date | Subject
2-Apr-15 | MO | Cassville | Cassville Muni | 4/0064 | 02/06/15 | RNAV (GPS) RWY 27, Orig.
2-Apr-15 | MO | Cassville | Cassville Muni | 4/0065 | 02/06/15 | RNAV (GPS) RWY 9, Amdt 1.
2-Apr-15 | MO | Cape Girardeau | Cape Girardeau Rgnl | 4/0066 | 02/02/15 | RNAV (GPS) RWY 20, Orig.
2-Apr-15 | MN | Wadena | Wadena Muni | 4/0067 | 02/02/15 | RNAV (GPS) RWY 16, Orig.
2-Apr-15 | MN | Buffalo | Buffalo Muni | 4/0068 | 02/02/15 | RNAV (GPS) RWY 36, Orig.
2-Apr-15 | MI | Alpena | Alpena County Rgnl | 4/0085 | 02/02/15 | NDB RWY 1, Amdt 7.
2-Apr-15 | MI | Alpena | Alpena County Rgnl | 4/0087 | 02/02/15 | ILS OR LOC RWY 1, Amdt 9.
2-Apr-15 | MI | Alpena | Alpena County Rgnl | 4/0088 | 02/02/15 | RNAV (GPS) RWY 1, Orig.-A.
2-Apr-15 | MO | Potosi | Washington County | 4/0098 | 02/02/15 | RNAV (GPS) RWY 20, Amdt 1.
2-Apr-15 | AR | Walnut Ridge | Walnut Ridge Rgnl | 4/0132 | 02/06/15 | RNAV (GPS) RWY 22, Amdt 1.
2-Apr-15 | AR | Walnut Ridge | Walnut Ridge Rgnl | 4/0143 | 02/06/15 | RNAV (GPS) RWY 18, Amdt 1.
2-Apr-15 | AR | Walnut Ridge | Walnut Ridge Rgnl | 4/0147 | 02/06/15 | RNAV (GPS) RWY 36, Amdt 1.
2-Apr-15 | MO | Cape Girardeau | Cape Girardeau Rgnl | 4/0160 | 02/02/15 | RNAV (GPS) RWY 10, Amdt 1.
2-Apr-15 | MO | Cape Girardeau | Cape Girardeau Rgnl | 4/0170 | 02/02/15 | VOR RWY 10, Amdt 3A.
2-Apr-15 | MO | Cape Girardeau | Cape Girardeau Rgnl | 4/0172 | 02/02/15 | ILS OR LOC RWY 10, Amdt 12.
2-Apr-15 | IN | Connersville | Mettel Field | 4/0186 | 02/02/15 | RNAV (GPS) RWY 18, Amdt 1A.
2-Apr-15 | IN | Connersville | Mettel Field | 4/0187 | 02/02/15 | ILS OR LOC RWY 18, Orig.-B.
2-Apr-15 | MN | Waseca | Waseca Muni | 4/0204 | 02/02/15 | RNAV (GPS) RWY 33, Orig.
2-Apr-15 | MO | Potosi | Washington County | 4/0214 | 02/02/15 | RNAV (GPS) RWY 2, Amdt 2.
2-Apr-15 | MI | Sault Ste Marie | Sault Ste Marie Muni/Sanderson Field | 4/0215 | 02/02/15 | RNAV (GPS) RWY 32, Orig.
2-Apr-15 | MI | Sault Ste Marie | Sault Ste Marie Muni/Sanderson Field | 4/0235 | 02/02/15 | VOR RWY 32, Amdt 3.
2-Apr-15 | ND | Linton | Linton Muni | 4/0392 | 02/02/15 | RNAV (GPS) RWY 9, Orig.
2-Apr-15 | MO | Butler | Butler Memorial | 4/0434 | 02/02/15 | RNAV (GPS) RWY 18, Orig.
2-Apr-15 | MO | Butler | Butler Memorial | 4/0435 | 02/02/15 | RNAV (GPS) RWY 36, Orig.
2-Apr-15 | MN | Waseca | Waseca Muni | 4/0477 | 02/02/15 | RNAV (GPS) RWY 15, Amdt 1.
2-Apr-15 | MI | Kalamazoo | Kalamazoo/Battle Creek Intl | 4/0490 | 02/02/15 | RNAV (GPS) RWY 17, Amdt 1.
2-Apr-15 | IA | Algona | Algona Muni | 4/0496 | 02/02/15 | RNAV (GPS) RWY 30, Amdt 1.
2-Apr-15 | ND | Wahpeton | Harry Stern | 4/0511 | 02/02/15 | RNAV (GPS) RWY 33, Amdt 1.
2-Apr-15 | MN | Wadena | Wadena Muni | 4/0515 | 02/02/15 | RNAV (GPS) RWY 34, Amdt 1.
2-Apr-15 | MN | Grand Marais | Grand Marais/Cook County | 4/0546 | 02/06/15 | RNAV (GPS) RWY 27, Amdt 1.
2-Apr-15 | MN | Cambridge | Cambridge Muni | 4/0935 | 02/02/15 | RNAV (GPS) RWY 34, Orig.
2-Apr-15 | MN | Cambridge | Cambridge Muni | 4/0937 | 02/02/15 | NDB RWY 34, Amdt 7.
2-Apr-15 | MN | Cambridge | Cambridge Muni | 4/0938 | 02/02/15 | RNAV (GPS) RWY 16, Orig.
2-Apr-15 | MO | Kaiser/Lake Ozark | Lee C Fine Memorial | 4/0956 | 02/02/15 | VOR RWY 4, Amdt 7A.
2-Apr-15 | MO | Kaiser/Lake Ozark | Lee C Fine Memorial | 4/0960 | 02/02/15 | RNAV (GPS) RWY 4, Amdt 1.
2-Apr-15 | IA | Burlington | Southeast Iowa Rgnl | 4/6663 | 02/02/15 | RNAV (GPS) RWY 12, Amdt 1.
2-Apr-15 | IL | Belleville | Scott AFB/MidAmerica | 5/3904 | 02/02/15 | ILS OR LOC/DME RWY 32L, Amdt 1A.
2-Apr-15 | IL | Belleville | Scott AFB/MidAmerica | 5/3905 | 02/02/15 | RNAV (GPS) RWY 32L, Orig.-C.
2-Apr-15 | IL | Belleville | Scott AFB/MidAmerica | 5/3906 | 02/02/15 | TACAN RWY 32L, Amdt 1.
2-Apr-15 | IL | Cairo | Cairo Rgnl | 5/3907 | 02/02/15 | NDB RWY 14, Amdt 2.
2-Apr-15 | IL | Cairo | Cairo Rgnl | 5/3908 | 02/02/15 | RNAV (GPS) RWY 32, Orig.
2-Apr-15 | IL | Cairo | Cairo Rgnl | 5/3909 | 02/02/15 | RNAV (GPS) RWY 14, Orig.
2-Apr-15 | IL | Flora | Flora Muni | 5/3920 | 02/02/15 | RNAV (GPS) RWY 21, Amdt 2.
2-Apr-15 | IL | Galesburg | Galesburg Muni | 5/3921 | 02/02/15 | ILS OR LOC/DME RWY 3, Amdt 10.
2-Apr-15 | IL | Galesburg | Galesburg Muni | 5/3922 | 02/02/15 | RNAV (GPS) RWY 3, Orig.
2-Apr-15 | IL | Galesburg | Galesburg Muni | 5/3923 | 02/02/15 | VOR RWY 3, Amdt 7.
2-Apr-15 | IL | Kankakee | Greater Kankakee | 5/3927 | 02/02/15 | RNAV (GPS) RWY 34, Amdt 1.
2-Apr-15 | IL | Kankakee | Greater Kankakee | 5/3928 | 02/02/15 | RNAV (GPS) RWY 16, Amdt 1.
2-Apr-15 | IN | Indianapolis | Hendricks County-Gordon Graham Fld | 5/3930 | 02/02/15 | RNAV (GPS) RWY 36, Orig.
2-Apr-15 | IN | Frankfort | Frankfort Muni | 5/4029 | 02/02/15 | RNAV (GPS) RWY 27, Amdt 1.
2-Apr-15 | IN | Gary | Gary/Chicago Intl | 5/4107 | 02/06/15 | RNAV (GPS) Y RWY 30, Orig.
2-Apr-15 | IN | Gary | Gary/Chicago Intl | 5/4108 | 02/06/15 | NDB RWY 30, Amdt 7C.
2-Apr-15 | IN | Indianapolis | Indianapolis Rgnl | 5/4193 | 02/02/15 | RNAV (GPS) RWY 34, Amdt 1.
2-Apr-15 | IN | Kokomo | Kokomo Muni | 5/4224 | 02/02/15 | RNAV (GPS) RWY 14, Orig.
2-Apr-15 | KS | El Dorado | El Dorado/Captain Jack Thomas Memorial | 5/4230 | 02/02/15 | RNAV (GPS) RWY 33, Amdt 1.
2-Apr-15 | LA | Baton Rouge | Baton Rouge Metropolitan, Ryan Field | 5/4268 | 02/02/15 | RNAV (GPS) RWY 4L, Amdt 2.
2-Apr-15 | LA | Bogalusa | George R Carr Memorial Air Fld | 5/4292 | 02/02/15 | RNAV (GPS) RWY 36, Amdt 1.
2-Apr-15 | LA | Jonesboro | Jonesboro | 5/4303 | 02/02/15 | RNAV (GPS) RWY 18, Orig.-A.
2-Apr-15 | LA | Jonesboro | Jonesboro | 5/4304 | 02/02/15 | RNAV (GPS) RWY 36, Orig.-A.
2-Apr-15 | LA | Leesville | Leesville | 5/4308 | 02/02/15 | RNAV (GPS) RWY 36, Amdt 1.
2-Apr-15 | LA | Leesville | Leesville | 5/4309 | 02/02/15 | NDB RWY 36, Amdt 2.
2-Apr-15 | LA | Leesville | Leesville | 5/4310 | 02/02/15 | RNAV (GPS) RWY 18, Orig.
2-Apr-15 | LA | Lake Charles | Lake Charles Rgnl | 5/4313 | 02/02/15 | RNAV (GPS) RWY 33, Amdt 2.
2-Apr-15 | LA | Lake Charles | Lake Charles Rgnl | 5/4314 | 02/02/15 | RNAV (GPS) RWY 15, Amdt 1.
2-Apr-15 | LA | Lake Charles | Lake Charles Rgnl | 5/4315 | 02/02/15 | ILS OR LOC RWY 15, Amdt 21.
2-Apr-15 | LA | Lafayette | Lafayette Rgnl | 5/4316 | 02/02/15 | RNAV (GPS) RWY 4R, Amdt 1.
2-Apr-15 | LA | Lafayette | Lafayette Rgnl | 5/4317 | 02/02/15 | RNAV (GPS) RWY 22L, Amdt 1.
2-Apr-15 | LA | Lafayette | Lafayette Rgnl | 5/4318 | 02/02/15 | ILS OR LOC/DME RWY 4R, Amdt 2.
2-Apr-15 | LA | Lafayette | Lafayette Rgnl | 5/4319 | 02/02/15 | ILS OR LOC RWY 22L, Amdt 5.
2-Apr-15 | MI | Niles | Jerry Tyler Memorial | 5/4327 | 02/02/15 | RNAV (GPS) RWY 33, Orig.
2-Apr-15 | MI | Niles | Jerry Tyler Memorial | 5/4328 | 02/02/15 | RNAV (GPS) RWY 15, Orig.-A.
2-Apr-15 | MI | Sault Ste Marie | Sault Ste Marie Muni/Sanderson Field | 5/4331 | 02/02/15 | RNAV (GPS) RWY 14, Orig.
2-Apr-15 | MI | Battle Creek | W K Kellogg | 5/4333 | 02/02/15 | RNAV (GPS) RWY 31, Orig.
2-Apr-15 | MI | Battle Creek | W K Kellogg | 5/4334 | 02/02/15 | ILS OR LOC RWY 23R, Amdt 18.
2-Apr-15 | MI | Battle Creek | W K Kellogg | 5/4335 | 02/02/15 | NDB RWY 23R, Amdt 18.
2-Apr-15. | MI | Romeo | Romeo State | 5/4351 | 02/02/15 | RNAV (GPS) RWY 36, Amdt 1A.
2-Apr-15 | MI | Romeo | Romeo State | 5/4352 | 02/02/15 | RNAV (GPS) RWY 18, Amdt 1.
2-Apr-15 | MI | Sturgis | Kirsch Muni | 5/4355 | 02/02/15 | NDB RWY 18, Amdt 5C.
2-Apr-15 | MI | Sturgis | Kirsch Muni | 5/4356 | 02/02/15 | RNAV (GPS) RWY 18, Amdt 1.
2-Apr-15 | MI | Menominee | Menominee-Marinette Twin County | 5/4357 | 02/02/15 | RNAV (GPS) RWY 32, Amdt 1.
2-Apr-15 | MI | Howell | Livingston County Spencer J Hardy | 5/4358 | 02/02/15 | VOR RWY 31, Amdt 11.
2-Apr-15 | MI | Howell | Livingston County Spencer J Hardy | 5/4359 | 02/02/15 | RNAV (GPS) RWY 31, Amdt 1.
2-Apr-15 | MI | Howell | Livingston County Spencer J Hardy | 5/4360 | 02/02/15 | NDB RWY 13, Amdt 3.
2-Apr-15 | MI | Howell | Livingston County Spencer J Hardy | 5/4361 | 02/02/15 | RNAV (GPS) RWY 13, Amdt 2.
2-Apr-15 | MI | Howell | Livingston County Spencer J Hardy | 5/4362 | 02/02/15 | ILS OR LOC RWY 13, Amdt 1.
2-Apr-15 | MI | Marshall | Brooks Field | 5/4364 | 02/02/15 | RNAV (GPS) RWY 28, Orig.
2-Apr-15 | MI | Mason | Mason Jewett Field | 5/4365 | 02/02/15 | RNAV (GPS) RWY 28, Orig.-A.
2-Apr-15 | MI | Owosso | Owosso Community | 5/4366 | 02/02/15 | RNAV (GPS) RWY 11, Amdt 1A.
2-Apr-15 | OH | Bryan | Williams County | 5/4368 | 02/02/15 | RNAV (GPS) RWY 7, Amdt 1.
2-Apr-15 | OH | Ashland | Ashland County | 5/4370 | 02/02/15 | RNAV (GPS) RWY 19, Orig.-B.
2-Apr-15 | OH | Woodsfield | Monroe County | 5/4371 | 01/27/15 | RNAV (GPS) RWY 25, Orig.
2-Apr-15 | OH | Woodsfield | Monroe County | 5/4372 | 01/27/15 | VOR/DME RWY 25, Amdt 7.
2-Apr-15 | OH | Mount Vernon | Knox County | 5/4373 | 01/27/15 | RNAV (GPS) RWY 10, Amdt 1.
2-Apr-15 | OH | Mount Vernon | Knox County | 5/4374 | 01/27/15 | RNAV (GPS) RWY 28, Amdt 1.
2-Apr-15 | OH | Middlefield | Geauga County | 5/4375 | 01/27/15 | RNAV (GPS) RWY 11, Orig.
2-Apr-15 | OH | Middlefield | Geauga County | 5/4376 | 01/27/15 | RNAV (GPS) RWY 29, Orig.
2-Apr-15 | OH | Cadiz | Harrison County | 5/4377 | 02/02/15 | RNAV (GPS) RWY 31, Orig.
2-Apr-15 | OH | Tiffin | Seneca County | 5/4432 | 01/27/15 | RNAV (GPS) RWY 24, Amdt 1.
2-Apr-15 | OH | Lima | Lima Allen County | 5/4466 | 01/27/15 | RNAV (GPS) RWY 10, Amdt 1.
2-Apr-15 | OH | Akron | Akron-Canton Rgnl | 5/4467 | 02/02/15 | ILS OR LOC RWY 5, Orig.-A.
2-Apr-15 | OH | Cleveland | Cuyahoga County | 5/4509 | 02/04/15 | RNAV (GPS) RWY 24, Amdt 1.
2-Apr-15 | OH | Cleveland | Cuyahoga County | 5/4510 | 02/04/15 | ILS OR LOC RWY 24, Amdt 15.
2-Apr-15 | OH | Cleveland | Cuyahoga County | 5/4511 | 02/04/15 | RNAV (GPS) RWY 6, Amdt 1.
2-Apr-15 | TX | Littlefield | Littlefield Taylor Brown Muni | 5/4603 | 01/27/15 | NDB RWY 1, Amdt 1.
2-Apr-15 | TX | Littlefield | Littlefield Taylor Brown Muni | 5/4605 | 01/27/15 | RNAV (GPS) RWY 1, Orig.
2-Apr-15 | OH | Defiance | Defiance Memorial | 5/4646 | 01/27/15 | RNAV (GPS) RWY 12, Orig.
2-Apr-15 | OH | Bellefontaine | Bellefontaine Rgnl | 5/4652 | 02/02/15 | VOR/DME RWY 7, Orig.-A.
2-Apr-15 | OH | Bellefontaine | Bellefontaine Rgnl | 5/4653 | 02/02/15 | RNAV (GPS) RWY 7, Amdt 1.
2-Apr-15 | OH | Fostoria | Fostoria Metropolitan | 5/4752 | 01/27/15 | RNAV (GPS) RWY 9, Orig.
2-Apr-15 | OH | Gallipolis | Gallia-Meigs Rgnl | 5/4753 | 01/27/15 | RNAV (GPS) RWY 23, Orig.
2-Apr-15 | OH | Cincinnati | Cincinnati Muni Airport Lunken Field | 5/4803 | 02/04/15 | RNAV (GPS) RWY 21L, Amdt 1A.
2-Apr-15 | OH | Cincinnati | Cincinnati Muni Airport Lunken Field | 5/4804 | 02/04/15 | RNAV (GPS) RWY 3R, Orig.
2-Apr-15 | OH | Cincinnati | Cincinnati Muni Airport Lunken Field | 5/4805 | 02/04/15 | NDB RWY 21L, Amdt 17.
2-Apr-15 | OH | Cincinnati | Cincinnati Muni Airport Lunken Field | 5/4806 | 02/04/15 | LOC BC RWY 3R, Amdt 8C.
2-Apr-15 | OH | Cincinnati | Cincinnati Muni Airport Lunken Field | 5/4807 | 02/04/15 | RNAV (GPS) RWY 25, Amdt 1.
2-Apr-15 | OH | Cincinnati | Cincinnati Muni Airport Lunken Field | 5/4808 | 02/04/15 | NDB RWY 25, Amdt 12.
2-Apr-15 | OH | Mansfield | Mansfield Lahm Rgnl | 5/4809 | 01/27/15 | RNAV (GPS) RWY 14, Amdt 1.
2-Apr-15 | OH | Mansfield | Mansfield Lahm Rgnl | 5/4810 | 01/27/15 | VOR RWY 14, Amdt 15.
2-Apr-15 | OH | Mansfield | Mansfield Lahm Rgnl | 5/4811 | 01/27/15 | RNAV (GPS) RWY 32, Orig.-B.
2-Apr-15 | OH | Middletown | Middletown Regional/Hook Field | 5/4812 | 01/27/15 | NDB RWY 23, Amdt 9.
2-Apr-15 | OH | Middletown | Middletown Regional/Hook Field | 5/4813 | 01/27/15 | RNAV (GPS) RWY 23, Orig.
2-Apr-15 | OH | Middletown | Middletown Regional/Hook Field | 5/4814 | 01/27/15 | RNAV (GPS) RWY 5, Orig.
2-Apr-15 | OH | Oxford | Miami University | 5/4815 | 02/05/15 | RNAV (GPS) RWY 5, Orig.
2-Apr-15 | OH | Oxford | Miami University | 5/4816 | 02/05/15 | NDB RWY 5, Amdt 11.
2-Apr-15 | OH | Oxford | Miami University | 5/4817 | 02/05/15 | RNAV (GPS) RWY 23, Orig.
2-Apr-15 | OH | Chillicothe | Ross County | 5/4818 | 02/05/15 | VOR RWY 23, Amdt 3D.
2-Apr-15 | OH | Chillicothe | Ross County | 5/4819 | 02/05/15 | RNAV (GPS) RWY 23, Amdt 1.
2-Apr-15 | OH | Fremont | Sandusky County Rgnl | 5/4820 | 02/05/15 | RNAV (GPS) RWY 6, Orig.
2-Apr-15 | OH | Wauseon | Fulton County | 5/4821 | 02/05/15 | RNAV (GPS) RWY 27, Orig.
2-Apr-15 | OH | Youngstown/Warren | Youngstown-Warren Rgnl | 5/4822 | 02/05/15 | ILS OR LOC RWY 14, Amdt 8.
2-Apr-15 | OK | Clinton | Clinton Rgnl | 5/4825 | 02/05/15 | RNAV (GPS) RWY 17, Amdt 2.
2-Apr-15 | OK | Clinton | Clinton Rgnl | 5/4826 | 02/05/15 | RNAV (GPS) RWY 35, Amdt 3.
2-Apr-15 | OK | Guymon | Guymon Muni | 5/4827 | 02/05/15 | NDB RWY 18, Amdt 5A.
2-Apr-15 | OK | Guymon | Guymon Muni | 5/4828 | 02/05/15 | RNAV (GPS) RWY 18, Amdt 1.
2-Apr-15 | OK | Guymon | Guymon Muni | 5/4829 | 02/05/15 | RNAV (GPS) RWY 36, Orig.
2-Apr-15 | OK | Tulsa | Tulsa Intl | 5/4832 | 02/05/15 | VOR OR TACAN RWY 26, Amdt 24C.
2-Apr-15 | OK | Tulsa | Tulsa Intl | 5/4833 | 02/05/15 | RNAV (GPS) Y RWY 26, Amdt 3B.
2-Apr-15 | SD | Britton | Britton Muni | 5/4834 | 02/05/15 | RNAV (GPS) RWY 13, Amdt 1.
2-Apr-15 | SD | Britton | Britton Muni | 5/4835 | 02/05/15 | RNAV (GPS) RWY 31, Amdt 1.
2-Apr-15 | TX | Lamesa | Lamesa Muni | 5/4836 | 02/05/15 | RNAV (GPS) RWY 16, Orig.
2-Apr-15 | TX | Lamesa | Lamesa Muni | 5/4837 | 02/05/15 | RNAV (GPS) RWY 34, Orig.
2-Apr-15 | TX | Commerce | Commerce Muni | 5/4838 | 02/05/15 | RNAV (GPS) RWY 36, Orig.
2-Apr-15 | TX | Commerce | Commerce Muni | 5/4839 | 02/05/15 | RNAV (GPS) RWY 18, Orig.
2-Apr-15 | TX | Kenedy | Karnes County | 5/4840 | 02/05/15 | RNAV (GPS) RWY 16, Orig.
2-Apr-15 | TX | Kenedy | Karnes County | 5/4841 | 02/05/15 | RNAV (GPS) RWY 34, Orig.
2-Apr-15 | TX | Lakeway | Lakeway Airpark | 5/4842 | 02/05/15 | RNAV (GPS) RWY 16, Amdt 1.
2-Apr-15 | TX | La Grange | Fayette Rgnl Air Center | 5/4843 | 02/05/15 | RNAV (GPS) RWY 16, Amdt 2.
2-Apr-15 | TX | La Grange | Fayette Rgnl Air Center | 5/4844 | 02/05/15 | VOR/DME A, Amdt 1A.
2-Apr-15 | TX | La Grange | Fayette Rgnl Air Center | 5/4845 | 02/05/15 | RNAV (GPS) RWY 34, Amdt 2.
2-Apr-15 | TX | San Antonio | Boerne Stage Field | 5/4846 | 01/27/15 | RNAV (GPS) RWY 17, Amdt 1.
2-Apr-15 | TX | Crosbyton | Crosbyton Muni | 5/4847 | 02/05/15 | RNAV (GPS) RWY 35, Orig.
2-Apr-15 | TX | Brenham | Brenham Muni | 5/4848 | 02/05/15 | RNAV (GPS) RWY 16, Amdt 2.
2-Apr-15 | TX | Fort Worth | Bourland Field | 5/4849 | 02/05/15 | RNAV (GPS) RWY 35, Amdt 1.
2-Apr-15 | TX | Lockhart | Lockhart Muni | 5/4851 | 02/05/15 | RNAV (GPS) RWY 18, Orig.
2-Apr-15 | TX | Lockhart | Lockhart Muni | 5/4852 | 02/05/15 | RNAV (GPS) RWY 36, Orig.
2-Apr-15 | TX | Navasota | Navasota Muni | 5/4853 | 02/05/15 | RNAV (GPS) RWY 35, Orig.
2-Apr-15 | TX | Winters | Winters Muni | 5/4854 | 02/06/15 | RNAV (GPS) RWY 17, Orig.
2-Apr-15 | TX | Kountze/Silsbee | Hawthorne Field | 5/4855 | 02/05/15 | RNAV (GPS) RWY 13, Amdt 1.
2-Apr-15 | TX | Waco | Waco Rgnl | 5/4856 | 02/06/15 | VOR/DME RWY 32, Amdt 15A.
2-Apr-15 | TX | Waco | Waco Rgnl | 5/4857 | 02/06/15 | RNAV (GPS) RWY 32, Orig.-C.
2-Apr-15 | TX | Waco | Waco Rgnl | 5/4858 | 02/06/15 | RNAV (GPS) RWY 1, Amdt 1A.
2-Apr-15 | TX | Waco | Waco Rgnl | 5/4859 | 02/06/15 | RNAV (GPS) RWY 14, Orig.-A.
2-Apr-15 | TX | Alice | Alice Intl | 5/4861 | 02/06/15 | VOR RWY 31, Amdt 13C.
2-Apr-15 | TX | Alice | Alice Intl | 5/4862 | 02/06/15 | LOC/DME RWY 31, Orig.-C.
2-Apr-15 | TX | Alice | Alice Intl | 5/4863 | 02/06/15 | RNAV (GPS) RWY 31, Amdt 1D.
2-Apr-15 | TX | Marshall | Harrison County | 5/4864 | 02/06/15 | RNAV (GPS) RWY 33, Orig.
2-Apr-15 | TX | Marshall | Harrison County | 5/4865 | 02/06/15 | RNAV (GPS) RWY 15, Orig.
2-Apr-15 | TX | Bryan | Coulter Field | 5/4866 | 02/06/15 | RNAV (GPS) RWY 33, Amdt 1.
2-Apr-15 | TX | Cleburne | Cleburne Rgnl | 5/4871 | 02/06/15 | RNAV (GPS) RWY 33, Amdt 1.
2-Apr-15 | TX | Monahans | Roy Hurd Memorial | 5/4887 | 01/27/15 | VOR/DME RWY 12, Amdt 1B.
2-Apr-15 | TX | Monahans | Roy Hurd Memorial | 5/4888 | 01/27/15 | RNAV (GPS) RWY 30, Orig.
2-Apr-15 | TX | Monahans | Roy Hurd Memorial | 5/4889 | 01/27/15 | RNAV (GPS) RWY 12, Orig.
2-Apr-15 | IL | Lawrenceville | Lawrenceville-Vincennes Intl | 5/5084 | 02/02/15 | VOR RWY 36, Amdt 1B.
2-Apr-15 | IL | Lawrenceville | Lawrenceville-Vincennes Intl | 5/5085 | 02/02/15 | RNAV (GPS) RWY 9, Amdt 1A.
2-Apr-15 | IL | Lawrenceville | Lawrenceville-Vincennes Intl | 5/5086 | 02/02/15 | RNAV (GPS) RWY 18, Amdt 1A.
2-Apr-15 | IL | Lawrenceville | Lawrenceville-Vincennes Intl | 5/5087 | 02/02/15 | RNAV (GPS) RWY 36, Amdt 1A.
2-Apr-15 | IL | Lawrenceville | Lawrenceville-Vincennes Intl | 5/5088 | 02/02/15 | RNAV (GPS) RWY 27, Amdt 1A.
2-Apr-15 | MI | Kalamazoo | Kalamazoo/Battle Creek Intl | 5/5123 | 02/02/15 | RNAV (GPS) RWY 5, Orig.
2-Apr-15 | MI | Kalamazoo | Kalamazoo/Battle Creek Intl | 5/5128 | 02/02/15 | RNAV (GPS) RWY 23, Orig.
2-Apr-15 | MI | Kalamazoo | Kalamazoo/Battle Creek Intl | 5/5140 | 02/02/15 | VOR RWY 23, Amdt 17A.
2-Apr-15 | TX | Eagle Lake | Eagle Lake | 5/5262 | 02/06/15 | RNAV (GPS) RWY 35, Amdt 1.
2-Apr-15 | TX | Eagle Lake | Eagle Lake | 5/5263 | 02/06/15 | RNAV (GPS) RWY 17, Amdt 1.
2-Apr-15 | OH | Marysville | Union County | 5/5266 | 01/27/15 | RNAV (GPS) RWY 27, Orig.
2-Apr-15 | TX | San Antonio | Boerne Stage Field | 5/5267 | 01/27/15 | RNAV (GPS) RWY 35, Amdt 1.
2-Apr-15 | OH | Columbus | Rickenbacker Intl | 5/5268 | 02/04/15 | RNAV (GPS) RWY 5L, Orig.
2-Apr-15 | OH | Columbus | Rickenbacker Intl | 5/5269 | 02/04/15 | ILS OR LOC RWY 5L, Amdt 1.
2-Apr-15 | OH | Columbus | Rickenbacker Intl | 5/5270 | 02/04/15 | RNAV (GPS) RWY 23R, Orig.
2-Apr-15 | OH | Columbus | Rickenbacker Intl | 5/5271 | 02/04/15 | RNAV (GPS) RWY 5R, Amdt 1.
2-Apr-15 | OH | Columbus | Rickenbacker Intl | 5/5272 | 02/04/15 | NDB RWY 23L, Amdt 2.
2-Apr-15 | OH | Columbus | Rickenbacker Intl | 5/5273 | 02/04/15 | NDB RWY 5R, Amdt 2.
2-Apr-15 | OH | Columbus | Rickenbacker Intl | 5/5274 | 02/04/15 | ILS OR LOC RWY 23L, Amdt 1.
2-Apr-15 | OH | Columbus | Rickenbacker Intl | 5/5275 | 02/04/15 | ILS OR LOC RWY 5R, Amdt 3A.
2-Apr-15 | OH | Batavia | Clermont County | 5/5870 | 02/02/15 | RNAV (GPS) RWY 22, Amdt 1B.
2-Apr-15 | OH | Batavia | Clermont County | 5/5872 | 02/02/15 | NDB RWY 22, Amdt 1B.
2-Apr-15 | TX | Houston | David Wayne Hooks Memorial | 5/5885 | 01/27/15 | LOC RWY 17R, Amdt 3A.
2-Apr-15 | TX | Houston | David Wayne Hooks Memorial | 5/5886 | 01/27/15 | RNAV (GPS) RWY 17R, Amdt 1C.
2-Apr-15 | TX | Houston | David Wayne Hooks Memorial | 5/5887 | 01/27/15 | RNAV (GPS) RWY 35L, Amdt 1B.
2-Apr-15 | TX | Bonham | Jones Field | 5/5975 | 02/06/15 | RNAV (GPS) RWY 17, Amdt 2.
2-Apr-15 | TX | Fort Worth | Fort Worth Spinks | 5/5992 | 02/06/15 | ILS OR LOC RWY 35L, Amdt 2.
2-Apr-15 | TX | Fort Worth | Fort Worth Spinks | 5/5993 | 02/06/15 | RNAV (GPS) RWY 35L, Amdt 1.
2-Apr-15 | TX | Longview | East Texas Rgnl | 5/6000 | 02/06/15 | RNAV (GPS) RWY 18, Amdt 2.
2-Apr-15 | TX | Galveston | Scholes Intl At Galveston | 5/6001 | 02/04/15 | RNAV (GPS) RWY 36, Amdt 1.
2-Apr-15 | TX | Galveston | Scholes Intl At Galveston | 5/6002 | 02/04/15 | RNAV (GPS) RWY 32, Amdt 1.
2-Apr-15 | TX | Galveston | Scholes Intl At Galveston | 5/6003 | 02/04/15 | RNAV (GPS) RWY 18, Amdt 2.
2-Apr-15 | TX | Galveston | Scholes Intl At Galveston | 5/6007 | 02/04/15 | VOR RWY 14, Amdt 4.
2-Apr-15 | TX | Galveston | Scholes Intl At Galveston | 5/6008 | 02/04/15 | ILS OR LOC RWY 14, Amdt 12.
2-Apr-15 | TX | Galveston | Scholes Intl At Galveston | 5/6009 | 02/04/15 | RNAV (GPS) RWY 14, Amdt 1.
2-Apr-15 | TX | Greenville | Majors | 5/6018 | 02/04/15 | TACAN RWY 17, Orig.
2-Apr-15 | TX | Greenville | Majors | 5/6019 | 02/04/15 | TACAN RWY 35, Orig.
2-Apr-15 | TX | Greenville | Majors | 5/6020 | 02/04/15 | ILS OR LOC Z RWY 17, Amdt 7A.
2-Apr-15 | OH | Columbus | Port Columbus Intl | 5/6031 | 02/04/15 | RNAV (RNP) Z RWY 10R, Amdt 1.
2-Apr-15 | OH | Columbus | Port Columbus Intl | 5/6032 | 02/04/15 | ILS OR LOC RWY 10R, ILS RWY 10R (SA CAT I & II), Amdt 9A.
2-Apr-15 | OH | Columbus | Port Columbus Intl | 5/6033 | 02/04/15 | RNAV (GPS) Y RWY 10R, Amdt 3.
2-Apr-15 | OH | Columbus | Port Columbus Intl | 5/6034 | 02/04/15 | RNAV (GPS) Y RWY 28L, Amdt 3.
2-Apr-15 | OH | Columbus | Port Columbus Intl | 5/6035 | 02/04/15 | RNAV (GPS) Y RWY 10L, Amdt 3.
2-Apr-15 | OH | Columbus | Port Columbus Intl | 5/6036 | 02/04/15 | RNAV (RNP) Z RWY 28R, Amdt 1.
2-Apr-15 | OH | Columbus | Port Columbus Intl | 5/6037 | 02/04/15 | RNAV (RNP) Z RWY 28L, Amdt 1.
2-Apr-15 | OH | Columbus | Port Columbus Intl | 5/6038 | 02/04/15 | RNAV (RNP) Z RWY 10L, Amdt 1.
2-Apr-15 | OH | Columbus | Port Columbus Intl | 5/6039 | 02/04/15 | ILS OR LOC RWY 10L, Amdt 19.
2-Apr-15 | OH | Columbus | Port Columbus Intl | 5/6040 | 02/04/15 | ILS OR LOC RWY 28L, Amdt 29.
2-Apr-15 | TX | San Marcos | San Marcos Muni | 5/6282 | 02/06/15 | RNAV (GPS) RWY 8, Orig.
2-Apr-15 | TX | San Marcos | San Marcos Muni | 5/6283 | 02/06/15 | RNAV (GPS) RWY 31, Orig.
2-Apr-15 | TX | San Marcos | San Marcos Muni | 5/6284 | 02/06/15 | RNAV (GPS) RWY 26, Orig.
2-Apr-15 | TX | San Marcos | San Marcos Muni | 5/6285 | 02/06/15 | RNAV (GPS) RWY 35, Orig.
2-Apr-15 | TX | Dallas | Dallas Love Field | 5/6326 | 01/27/15 | ILS OR LOC RWY 31R, ILS RWY 31R (SA CAT I), Amdt 5B.
2-Apr-15 | TX | Dallas | Dallas Love Field | 5/6327 | 01/27/15 | RNAV (GPS) Z RWY 13L, Amdt 2.
2-Apr-15 | TX | Dallas | Dallas Love Field | 5/6328 | 01/27/15 | RNAV (GPS) Y RWY 13L, Amdt 1.
2-Apr-15 | TX | Dallas | Dallas Love Field | 5/6329 | 01/27/15 | ILS OR LOC Y RWY 13L, Amdt 32A.
2-Apr-15 | TX | Denton | Denton Muni | 5/6330 | 01/27/15 | ILS OR LOC RWY 18, Amdt 9.
2-Apr-15 | TX | Denton | Denton Muni | 5/6331 | 01/27/15 | NDB RWY 18, Amdt 7.
2-Apr-15 | TX | Denton | Denton Muni | 5/6332 | 01/27/15 | RNAV (GPS) RWY 36, Amdt 1.
2-Apr-15 | OK | Ardmore | Ardmore Muni | 5/6333 | 01/27/15 | RNAV (GPS) RWY 31, Amdt 1.
2-Apr-15 | OK | Ardmore | Ardmore Muni | 5/6334 | 01/27/15 | ILS OR LOC RWY 31, Amdt 5.
2-Apr-15 | TX | Houston | William P Hobby | 5/6335 | 01/27/15 | VOR/DME RWY 30L, Amdt 18.
2-Apr-15 | TX | Houston | William P Hobby | 5/6336 | 01/27/15 | RNAV (GPS) RWY 30L, Amdt 2A.
2-Apr-15 | TX | Houston | William P Hobby | 5/6337 | 01/27/15 | ILS OR LOC RWY 30L, Amdt 6A.
2-Apr-15 | TX | Waco | TSTC Waco | 5/6338 | 01/27/15 | RNAV (GPS) RWY 35R, Amdt 1A.
2-Apr-15 | TX | Waco | TSTC Waco | 5/6339 | 01/27/15 | NDB RWY 35R, Amdt 11B.
2-Apr-15 | TX | Harlingen | Valley Intl | 5/6344 | 01/27/15 | RNAV (GPS) RWY 17L, Amdt 2A.
2-Apr-15 | TX | Harlingen | Valley Intl | 5/6347 | 01/27/15 | RNAV (GPS) Y RWY 35L, Amdt 2.
2-Apr-15 | TX | Harlingen | Valley Intl | 5/6349 | 01/27/15 | RNAV (RNP) Z RWY 35L, Orig.
2-Apr-15 | TX | Harlingen | Valley Intl | 5/6351 | 01/27/15 | RNAV (GPS) Y RWY 31, Amdt 2.
2-Apr-15 | TX | Harlingen | Valley Intl | 5/6352 | 01/27/15 | RNAV (RNP) Z RWY 31, Orig.
2-Apr-15 | TX | Harlingen | Valley Intl | 5/6353 | 01/27/15 | RNAV (GPS) Y RWY 13, Amdt 2.
2-Apr-15 | TX | Harlingen | Valley Intl | 5/6354 | 01/27/15 | RNAV (GPS) RWY 35R, Orig.
2-Apr-15 | TX | Harlingen | Valley Intl | 5/6355 | 01/27/15 | RNAV (RNP) Z RWY 13, Orig.
2-Apr-15 | TX | Harlingen | Valley Intl | 5/6356 | 01/27/15 | RNAV (GPS) Y RWY 17R, Amdt 2.
2-Apr-15 | TX | Harlingen | Valley Intl | 5/6357 | 01/27/15 | RNAV (RNP) Z RWY 17R, Orig.
2-Apr-15 | MI | Alpena | Alpena County Rgnl | 5/6390 | 02/02/15 | VOR RWY 1, Amdt 14C.
2-Apr-15 | TX | Wink | Winkler County | 5/6394 | 02/06/15 | RNAV (GPS) RWY 31, Amdt 1.
2-Apr-15 | TX | Houston | West Houston | 5/6447 | 02/06/15 | RNAV (GPS) RWY 33, Amdt 1.
2-Apr-15 | TX | Houston | West Houston | 5/6448 | 02/06/15 | RNAV (GPS) RWY 15, Amdt 1.
2-Apr-15 | IN | Gary | Gary/Chicago Intl | 5/6451 | 02/06/15 | COPTER ILS RWY 30, Orig.
2-Apr-15 | TX | Jacksonville | Cherokee County | 5/6474 | 02/06/15 | RNAV (GPS) RWY 32, Orig.
2-Apr-15 | TX | Gilmer | Fox Stephens Field—Gilmer Muni | 5/6477 | 02/06/15 | RNAV (GPS) RWY 18, Orig.
2-Apr-15 | TX | Gilmer | Fox Stephens Field—Gilmer Muni | 5/6478 | 02/06/15 | RNAV (GPS) RWY 36, Orig.
2-Apr-15 | TX | Lubbock | Lubbock Preston Smith Intl | 5/6496 | 02/06/15 | VOR/DME OR TACAN RWY 26, Amdt 11.
2-Apr-15 | TX | Lubbock | Lubbock Preston Smith Intl | 5/6497 | 02/06/15 | RNAV (GPS) RWY 26, Amdt 2.
2-Apr-15 | TX | Lubbock | Lubbock Preston Smith Intl | 5/6498 | 02/06/15 | RNAV (GPS) RWY 8, Amdt 2.
2-Apr-15 | TX | Lubbock | Lubbock Preston Smith Intl | 5/6499 | 02/06/15 | ILS OR LOC RWY 26, Amdt 4.
2-Apr-15 | AR | Walnut Ridge | Walnut Ridge Rgnl | 5/7014 | 02/06/15 | VOR/DME RWY 22, Amdt 13A.
2-Apr-15 | AR | Walnut Ridge | Walnut Ridge Rgnl | 5/7017 | 02/06/15 | LOC RWY 18, Amdt 3A.
2-Apr-15 | TX | Tyler | Tyler Pounds Rgnl | 5/8746 | 02/06/15 | ILS OR LOC RWY 13, Amdt 21.
2-Apr-15 | TX | Tyler | Tyler Pounds Rgnl | 5/8747 | 02/06/15 | RNAV (GPS) RWY 13, Amdt 2.
2-Apr-15 | TX | Tyler | Tyler Pounds Rgnl | 5/8748 | 02/06/15 | VOR RWY 31, Amdt 2.
2-Apr-15 | TX | Tyler | Tyler Pounds Rgnl | 5/8749 | 02/06/15 | RNAV (GPS) RWY 31, Amdt 2.
2-Apr-15 | TX | Tyler | Tyler Pounds Rgnl | 5/8750 | 02/06/15 | RNAV (GPS) RWY 22, Amdt 2A.
2-Apr-15 | TX | Tyler | Tyler Pounds Rgnl | 5/8751 | 02/06/15 | VOR/DME RWY 22, Amdt 4.
2-Apr-15 | WI | Ashland | John F Kennedy Memorial | 5/8755 | 02/06/15 | RNAV (GPS) RWY 31, Amdt 1.
2-Apr-15 | WI | Ashland | John F Kennedy Memorial | 5/8756 | 02/06/15 | RNAV (GPS) RWY 2, Amdt 1.
2-Apr-15 | WI | Ashland | John F Kennedy Memorial | 5/8757 | 02/06/15 | RNAV (GPS) RWY 20, Amdt 1.
2-Apr-15 | WI | Ashland | John F Kennedy Memorial | 5/8758 | 02/06/15 | RNAV (GPS) RWY 13, Amdt 1.
2-Apr-15 | WI | Ashland | John F Kennedy Memorial | 5/8759 | 02/06/15 | LOC/DME RWY 2, Amdt 1.
2-Apr-15 | WI | Amery | Amery Muni | 5/8760 | 02/05/15 | RNAV (GPS) RWY 36, Amdt 1.
2-Apr-15 | WI | Amery | Amery Muni | 5/8761 | 02/05/15 | RNAV (GPS) RWY 18, Amdt 1.
2-Apr-15 | TX | Waco | McGregor Executive | 5/8765 | 02/06/15 | RNAV (GPS) RWY 17, Amdt 1A.
2-Apr-15 | TX | Waco | McGregor Executive | 5/8766 | 02/06/15 | RNAV (GPS) RWY 35, Amdt 1A.
2-Apr-15 | TX | Eastland | Eastland Muni | 5/8768 | 02/06/15 | RNAV (GPS) RWY 35, Amdt 2.

[FR Doc. 2015-06252 Filed 3-19-15; 8:45 am]

BILLING CODE 4910-13-P